DEPARTMENT OF JUSTICE

Notice of Lodging of Proposed Modifications of Consent Decree Under the Clean Air Act

On August 3, 2016, the Department of Justice lodged proposed modifications to a Consent Decree with the United States District Court for the Eastern District of Virginia in United States et al. v. Virginia Electric and Power Company, Civil Case Nos. 1:03-cv-00517 & 1:03-cv-00603 (E.D. Va.).

The original Consent Decree was entered on October 3, 2003, and resolved civil claims under the Clean Air Act at a number of the Defendant's electric-generating facilities located in Virginia and West Virginia. The Consent Decree imposed various pollution control requirements on Defendant's facilities, including requirements related to particulate matter emissions at Defendant's Bremo Power Station located in Fluvanna County, Virginia. The Consent Decree also required the Defendant to fund certain environmental mitigation projects, including certain projects identified by the co-plaintiff States of Connecticut and Virginia.

The parties to the Consent Decree have agreed to certain modifications set forth in three amendments to the Consent. The first amendment modifies the Consent Decree's particulate matter provisions to recognize that the Bremo Power Station no longer burns coal or fuel oil and instead is fired exclusively with natural gas. The second and third amendments modify the Consent Decree's environmental mitigation project provisions to allow the co-plaintiff States of Connecticut and Virginia to use remaining environmental mitigation funds on additional environmental mitigation projects.

The publication of this notice opens a period for public comment on the proposed modifications to the Consent Decree. Comments should be addressed to the Assistant Attorney General, Environment and Natural Resources Division, and should refer to United States et al. v. Virginia Electric and Power Company, Civil Case Nos. 1:03-cv-00517 & 1:03-cv-00603 (E.D. Va.), D.J. Ref. No. 90-5-2-1-07122. All comments must be submitted no later than thirty (30) days after the publication date of this notice. Comments may be submitted either by email or by mail:

To submit comments: | Send them to:
By email | pubcomment-ees.enrd@usdoj.gov
By mail | Assistant Attorney General U.S. DOJ—ENRD, P.O. Box 7611, Washington, DC 20044-7611

During the public comment period, the proposed amendments to the Consent Decree may be examined and downloaded at this Justice Department Web site: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $3.75 (25 cents per page reproduction cost) payable to the United States Treasury.

Jeffrey Sands,
Assistant Section Chief, Environmental Enforcement Section. Environment and Natural Resources Division

[FR Doc. 2016-18797 Filed 8-8-16; 8:45 am]

BILLING CODE 4410-15-P